DEPARTMENT OF AGRICULTURE

Food and Nutrition Service

Agency Information Collection Activities: Proposed Collection: Comment Request: Form FNS-583, Supplemental Nutrition Assistance Program Employment and Training Program Activity Report

AGENCY: Food and Nutrition Service (FNS), USDA.

ACTION: Notice.

SUMMARY: In accordance with the Paperwork Reduction Act, this notice invites the public and other public agencies to comment on a proposed information collection burden for the Supplemental Nutrition Assistance Program (SNAP), Employment and Training (E&T) Program, currently approved under OMB No. 0584-0339. This is an extension without revision of a currently approved collection. The burden estimate remains 21,889 hours.

DATES: Submit written comments on or before April 7, 2014.

ADDRESSES: Comments are invited on: (a) Whether the proposed collection of information is necessary for the proper performance of the functions of the agency, including whether the information will have practical utility; (b) the accuracy of the agency's estimate of burden of the proposed collection of information, including validity of the methodology and assumptions used; (c) ways to enhance the quality, utility and clarity of the information to be collected; and (d) ways to minimize the burden of the collection of information on those who are to respond, including through the use of appropriate automated, electronic, mechanical or other technological collection techniques or other form of information technology.

Comments may be sent to Sasha Gersten-Paal, Acting Chief, Program Design Branch, Program Development Division, Supplemental Nutrition Assistance Program, Food and Nutrition Service, U.S. Department of Agriculture, 3101 Park Center Drive, Room 810, Alexandria, Virginia, 22302. Comments may also be submitted via fax to the attention of Sasha Gersten-Paal at 703-305-2454 or via email to Sasha.Gersten-Paal@fns.usda.gov.

Comments will also be accepted through the Federal eRulemaking Portal. Go to http://www.regulations.gov and follow the online instructions for submitting comments electronically. All written comments will be open for public inspection at the office of the Food and Nutrition Service located at 3101 Park Center Drive, Room 810, Alexandria, Virginia 22302, during regular business hours (8:30 a.m. to 5 p.m., Monday through Friday).

All responses to this notice will be summarized and included in the request for Office of Management and Budget approval. All comments will also become a matter of public record.

FOR FURTHER INFORMATION CONTACT: Request for additional information or copies of this information collection should be directed to Sasha Gersten-Paal at (703) 305-2507.

SUPPLEMENTARY INFORMATION: Title: Employment and Training Program Activity Report.

OMB Number: 0584-0339.

Expiration Date: June 30, 2014.

Type of Request: Extension without revision of a currently approved collection.

Abstract: 7 CFR 273.7(c)(9) requires State agencies to submit quarterly E&T Program Activity Reports containing monthly figures for participation in the program. FNS uses Form FNS-583, to collect participation data. The information collected on the FNS-583 report includes:

• On the first quarter report, the number of work registrants receiving SNAP as of October 1 of the new fiscal year;

• On each quarterly report, by month, the number of new work registrants; the number of able-bodied adults without dependents (ABAWDs) applicants and recipients participating in qualifying components; the number of all other applicants and recipients (including ABAWDs involved in non-qualifying activities) participating in components; and the number of ABAWDs exempt under the State agency's 15 percent exemption allowance;

• On the fourth quarter report, the total number of individuals who participated in each component, which is also sorted by ABAWD and non-ABAWD participants and the number of individuals who participated in the E&T Program during the fiscal year.

7 CFR 273.7(d)(1)(i)(D) provides that if a State agency will not expend all of the funds allocated to it for a fiscal year, FNS will reallocate unexpended funds to other State agencies during the fiscal year or the subsequent fiscal year as FNS considers appropriate and equitable. After FNS makes initial E&T allocations, State agencies may request more funds as needed. Typically FNS receives fourteen such requests per year.

The time it takes to prepare these requests is included in the burden. After receiving the State requests, FNS will reallocate unexpended funds as provided above. The following is the estimated burden for E&T reporting including the burden for State agencies to request additional funds.

Reporting

FNS-583 Report

Frequency: 4.

Affected Public: State Agency.

Number of Respondents: 53.

Number of Responses: 684. (Note this reflects multiple responses within the FNS-583 form; In aggregate, 53 State Agencies submit 1 form each quarter or 212 total responses per year.)

Estimated Time per Response: 31.9363 hours per State agency.

Estimated Total Annual Reporting Burden: 21,844.40 hours.

Requests for Additional Funds

Frequency: .2641.

Affected Public: State Agency.

Number of Respondents: 53.

Number of Responses: 14.

Estimated Time per Response: 1.00 hour per request.

Estimated Total Annual Reporting Burden: 14 hours.

Recordkeeping

FNS-583 Report

Number of Respondents: 53.

Number of Records: 212.

Number of Hours per Record: 0.137 hours.

Estimated Total Annual Recordkeeping Burden: 29.04 hours.

Requests for Additional Funds

Number of Respondents: 53.

Number of Records: 14.

Number of Hours per Record: 0.137 hours.

Estimated Total Annual Recordkeeping Burden: 1.92 hours.

Total Annual Reporting and Recordkeeping Burden
[Compiling and reporting for the FNS-583 and requests for more funding]
[Snap Employment and Training Program Activity Report]
Section of regulation | Title | Number of respondents | Reports filed annually | Total responses (C × D) | Estimated number of hours per response | Estimated total hours (C × D × F)
A | B | C | D | E | F | G
REPORTING
7 CFR 273.7(c)(8) | Compile and report new work registrants on FNS-583 | 53 | 4 | 212 | 90.94 | 19,278.28
7 CFR 273.24(g) | Compile and report 15 percent ABAWD exemptions on FNS-583 | 12 * | 4 | 48 | 4.59 | 220.32
7 CFR 273.7(f) | Compile and report E&T activities (placements) on FNS-583 | 53 | 4 | 212 | 10.10 | 2,142.20
7 CFR 273.7(C)(8) | Preparing FNS-583:
| States filing electronically | 50 | 4 | 200 | 1.00 | 200
| States filing manually | 3 | 4 | 12 | 0.3 | 3.6
7 CFR 273.7(d)(1)(i)(F) | Preparing requests for more funds after initial allocation | 53 | 0.2641 | 14 | 1 | 14
Total Reporting for FNS-583 and Additional Funds Requests |  | 53 | 13.1698 | 698 | 31.32 | 21,858.40
RECORDKEEPING
7 CFR 277.12 | Recordkeeping burden for FNS-583 | 53 | 4 | 212 | 0.137 | 29.04
7 CFR 277.12 | Record-keeping burden for additional requests | 53 | 0.26415 | 14 | 0.137 | 1.92
Total Recordkeeping Burden for FNS 583 and Additional Funds Requests |  | 53 | 4.26 | 226 | 0.137 | 30.96
SUMMARY
TOTAL ALL BURDENS |  | 53 | 17.43 | 924 | 23.689 | 21,889.36
* There are 12 States without statewide waivers of the time-limit that will likely use 15 percent exemptions.

Dated: January 24, 2014.
Audrey Rowe,
Administrator,Food and Nutrition Service.

[FR Doc. 2014-02256 Filed 2-3-14; 8:45 am]

BILLING CODE 3410-30-P